ENVIRONMENTAL PROTECTION AGENCY

[FRL-7248-1]

State Innovation Pilot Grant Program, Solicitation of Proposals for 2002

AGENCY: Environmental Protection Agency (EPA).

ACTION: Notice.

SUMMARY: On July 19, 2002 the U.S. Environmental Protection Agency transmitted a solicitation for proposals for a pilot grant program to support innovation by State environmental regulatory agencies—the “State Innovation Pilot Grant Program,” to the fifty-five state and Territorial Secretaries or Commissioners of those agencies.

DATES: Respondents will have until August 19, 2002 to respond with a brief pre-proposal and budget.

ADDRESSES: The URL address for the solicitation package is: http://www.epa.gov/projectxl/2002state.htm. Copies of the solicitation package will also be available from: Gerald Filbin (202-566-2182) (filbin.gerald@epa.gov) (FAX 202-566-2220); Office of Environmental Policy Innovation, Office of Policy Economics and Innovation; US Environmental Protection Agency (1807T); 1200 Pennsylvania Ave., NW., Washington, DC 20460.

FOR FURTHER INFORMATION CONTACT: Gerald Filbin at 202-566-2182.

SUPPLEMENTARY INFORMATION: Announcement of Availability of Solicitation for Pilot State Grants Program: In April 2002, EPA issued its plan for future innovation, published as Innovating for Better Environmental Results: A Strategy to Guide the Next Generation of Innovation at EPA (EPA 100-R-02-002; http://www.epa.gov/opei/strategy). The Agency's Strategy presents a framework for innovation consisting of four major elements:

(1) Strengthen EPA's innovation partnerships with States and Tribes;

(2) Focus on priority environmental areas:

—Reduce greenhouse gases

—Reduce smog

—Restore and maintain water quality

—Reduce the cost of water and wastewater infrastructure;

(3) Diversify our environmental protection tools and approaches:

—Information resources and technology

—Environmental technology

—Incentives

—Environmental Management Systems

—Results-based goals and measures;

(4) Foster a more “innovation-friendly” organizational culture and systems.

This pilot grant program will seek to strengthen EPA's innovation partnership with States by establishing a new system of funding to facilitate State efforts to address the priority environmental areas targeted in —and use the tools highlighted in—the Strategy. EPA would like to help States build on previous experience and undertake bigger, bolder and more strategic projects which test new models for “next generation” environmental protection and promise better environmental results.

With this 2002 pilot program, EPA is exploring the use of grants and cooperative agreements to support innovation at the State level. For 2002, and contingent upon Congressional approval of a re-programming request, EPA anticipates approximately $500,000.00 in total will be available for State innovation pilot assistance—this pilot fund will support approximately 3-7 projects that can produce results in 2-3 years. Only the States, the District of Columbia and the US Territories are eligible for this 2002 pilot grant program. It is EPA's intention to expand this pilot program to include innovation by American Indian Tribes, if funding becomes available in FY 2003.

The complete solicitation package was sent by express courier to the environmental regulatory agency Commissioners/Secretaries of every State, the District of Columbia and the Territories. It became available on the EPA's website on July 19, 2002.

Dated: July 19, 2002.
Christopher A. Knopes,
Associate Director, Office of Environmental Policy Innovation.

[FR Doc. 02-18864 Filed 7-24-02; 8:45 am]

BILLING CODE 6560-50-P